DEPARTMENT OF JUSTICE

Drug Enforcement Administration

Manufacturer of Controlled Substances; Notice of Registration

By Notice dated February 14, 2000, and published in the Federal Register on February 22, 2000, (65 FR 35), Isotec Inc., 3858 Benner Road, Miamisburg, Ohio 45342, made application by renewal to the Drug Enforcement Administration (DEA) to be registered as a bulk manufacturer of the basic classes of controlled substances listed below:

Drug | Schedule
Cathinone (1235) | I
Methcathinone(1237) | I
N-Ethylamphetamine (1475) | I
N-N-Dimethylamphetamine (1480) | I
Aminorex (1585) | I
Methaqualone (2565) | I
Lysergic acid diethylamide (7315) | I
Tetrahydrocannabinols (7370) | I
Mescaline (7381) | I
2,5-Dimethoxyamphetamine (7396) | I
3,4-Methylenedioxyamphetamine (7400) | I
3,4-Methylenedioxy-N-ethylamphetamine (7404) | I
3, 4,-Methylenedioxymethamphetamine (7405) | I
4-Methoxyamphetamine (7411) | I
Psilocybin (7437) | I
Psilocyn (7438) | I
N-Ethyl-1-phenylcyclohexylamine (7455) | I
Dihydromorphine (9145) | I
Normorphine (9313) | I
Acetylmethadol (9601) | I
Alphacetylmethadol Except Levo-Alphacetylmethadol (9603) | I
Normethadone (9635) | I
3-Methylfentanyl (9813) | I
Amphetamine (1100) | II
Methamphetamine (1105) | II
Methylphenidate (1724) | II
Amobarbital (2125) | II
Pentobarbital (2270) | II
Secobarbital (2315) | II
1-Phenylcyclohexylamine (7460) | II
Phencyclidine (7471) | II
Phenylacetone (8501) | II
1-Piperidinocyclohexanecarbonitrile (8603) | II
Codeine (9050) | II
Dihydrocodeine (9120) | II
Oxycodone (9143) | II
Hydromorphone (9150) | II
Benzoylecgonine (9180) | II
Ethylmorphone (9190) | II
Hydrocodone (9193) | II
Isomethadone (9226) | II
Meperidine (9230) | II
Methadone (9250) | II
Methadone intermediate (9254) | II
Dextropropoxyphene, bulk (non-dosage forms) (9273) | II
Morphine (9300) | II
Levo-Alphacetylmethadol (9648) | II
Oxymorphone (9652) | II
Fentanyl (9801) | II

The firm plans to manufacture small quantities of the listed controlled substances to produce standards for analytical laboratories.

DEA has considered the factors in Title 21, United States Code, Section 823(a) and determined that the registration of Iostec, Inc. to manufacture the listed controlled substances is consistent with the public interest at this time. DEA has investigated the company on a regular basis to ensure that its continued registration is consistent with the public interest. These investigations have included inspection and testing of the company's physical security systems, audits of the company's records, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed above is granted.

Dated: May 12, 2000.
John H. King,
Deputy Assistant Administrator, Office of Diversion Control, Drug Enforcement Administration.

[FR Doc. 00-12842 Filed 5-22-00; 8:45 am]

BILLING CODE 4410-09-M